DEPARTMENT OF THE INTERIOR

Bureau of Land Management

[LLNV952000 L14400000.BJ0000.LXSSF2210000.241A; MO # 4500134289]

Filing of Plats of Survey; NV

AGENCY: Bureau of Land Management, Interior.

ACTION: Notice.

SUMMARY: The purpose of this notice is to inform the public and interested State and local government officials of the filing of Plats of Survey in Nevada.

DATES: Unless otherwise stated filing is applicable at 10 a.m. on the dates indicated below.

FOR FURTHER INFORMATION CONTACT: Michael O. Harmening, Chief Cadastral Surveyor for Nevada, Bureau of Land Management, Nevada State Office, 1340 Financial Blvd., Reno, NV 89502-7147, phone: 775-861-6490. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION:

1. The Supplemental Plat of the following described lands was officially filed at the Bureau of Land Management (BLM) Nevada State Office, Reno, Nevada on March 27, 2019:

The supplemental plat, in one sheet, showing amended lottings in the NW1/4NW1/4 of section 16, Township 33 North, Range 70 East, Mount Diablo Meridian, Nevada, under Group No. 990, was accepted March 25, 2019. This supplemental plat was prepared to meet certain administrative needs of the Bureau of Land Management.

2. The Plat of Survey of the following described lands was officially filed at the Bureau of Land Management (BLM) Nevada State Office, Reno, Nevada on April 25, 2019:

The plat in one sheet, representing the dependent resurvey of a portion of the east boundary and a portion of the subdivisional lines, and subdivision of sections 2 and 13, Township 21 North, Range 19 East, Mount Diablo Meridian, Nevada, under Group No. 972, was accepted April 23, 2019. This survey was executed to define and mark boundaries and prepare an official land description for trust lands transferred by the Nevada Native Nations Land Act, Public Law 114-232, enacted October 7, 2016.

3. The Plat of Survey of the following described lands was officially filed at the Bureau of Land Management (BLM) Nevada State Office, Reno, Nevada on April 25, 2019:

The plat, in one sheet, representing the dependent resurvey of a portion of the south boundary and a portion of the subdivisional lines, Township 22 North, Range 19 East, Mount Diablo Meridian, Nevada, under Group No. 972, was accepted April 23, 2019. This survey was executed to define and mark boundaries and prepare an official land description for trust lands transferred by the Nevada Native Nations Land Act, Public Law 114-232, enacted October 7, 2016.

4. The Plat of Survey of the following described lands was officially filed at the Bureau of Land Management (BLM) Nevada State Office, Reno, Nevada on April 25, 2019:

The plats, in two sheets, representing the dependent resurvey of a portion of the east boundary of Township 22 North, Range 19 East, a portion of the subdivisional lines and portions of the segregation surveys of certain mineral claims, and the subdivision of sections 26, 27, 28, 29, 30, and 35, Township 22 North, Range 20 East, Mount Diablo Meridian, Nevada, under Group No. 972, were accepted April 23, 2019. This survey was executed to define and mark boundaries and prepare an official land description for trust lands transferred by the Nevada Native Nations Land Act, Public Law 114-232, enacted October 7, 2016.

5. The Plat of Survey of the following described lands was officially filed at the Bureau of Land Management (BLM) Nevada State Office, Reno, Nevada on April 25, 2019:

The plat, in one sheet, representing the dependent resurvey of a portion of the south boundary of Township 22 North, Range 20 East, and a portion of the subdivisional lines of Township 21 North, Range 20 East, and the subdivision of section 2, 3, 10, and 29, Township 21 North, Range 20 East, Mount Diablo Meridian, Nevada, under Group No. 972, was accepted April 23, 2019. This survey was executed to define and mark boundaries and prepare an official land description for trust lands transferred by the Nevada Native Nations Land Act, Public Law 114-232, enacted October 7, 2016.

6. The Plat of Survey of the following described lands was officially filed at the Bureau of Land Management (BLM) Nevada State Office, Reno, Nevada on May 21, 2019:

The plat, in one sheet, representing the dependent resurvey of a portion of the south boundary, a portion of the east boundary, a portion of the subdivisional lines, a portion of the 1873 meander lines of Summit Lake and a portion of the 1988-1991 meander lines of Summit Lake, and the further subdivision of section 35, and the subdivision of section 36, Township 42 North, Range 25 East, Mount Diablo Meridian, Nevada, under Group No. 975, were accepted May 17, 2019. This survey was executed to define and mark boundaries and prepare an official land description for trust lands transferred by the Nevada Native Nations Land Act, Public Law 114-232, enacted October 7, 2016.

The survey and supplemental plats listed above, are now the basic record for describing the lands for all authorized purposes. These records have been placed in the open files in the BLM Nevada State Office and are available to the public as a matter of information. Copies of the surveys and related field notes may be furnished to the public upon payment of the appropriate fees.

Dated: May 28, 2019.
Michael O. Harmening,
Chief Cadastral Surveyor for Nevada.

[FR Doc. 2019-11994 Filed 6-6-19; 8:45 am]

BILLING CODE 4310-HC-P